DEPARTMENT OF THE INTERIOR

Bureau of Land Management

[ES-960-1910-BJ-5040]

ES-051987, Group No. 157, Wisconsin; Eastern States: Filing of Plat of Survey

AGENCY: Bureau of Land Management, Interior.

ACTION: Notice of filing of plat of survey; Wisconsin.

SUMMARY: The Bureau of Land Management (BLM) will file the plat of survey, in two (2) sheets, of the lands described below in the BLM Eastern States Office, Springfield, Virginia, 30 calender days from the date of publication in the Federal Register.

FOR FURTHER INFORMATION CONTACT: Bureau of Land Management, 7450 Boston Boulevard, Springfield, Virginia 22153. Attn: Cadastral Survey.

SUPPLEMENTARY INFORMATION: This survey was requested by the Bureau of Indian Affairs and the Lac Courte Oreilles Tribal Governing Board because of extensive obliteration of original corner evidence within the reservation boundaries.

The lands we surveyed are:

Fourth Principal Meridian, Wisconsin

T. 39 N., R. 7 W.

The plat of survey represent the dependent resurvey of the north boundary, a portion of the south, east, and west boundaries, a portion of the subdivisional lines, the subdivision of certain sections, a survey of a portion of the present shoreline of Blueberry Lake, and the corrective resurvey of a portion of the subdivisional lines, the reestablishment of a portion of the original meander line, the apportionment of the shoreline frontage to original lots 5 and 6, in section 9, and the subdivision of section 9, Township 39 North, Range 7 West, Fourth Principal Meridian, in the state of Wisconsin, and was accepted August 21, 2003.

We will place a copy of the plat we described in the open files. It will be available to the public as a matter of information.

If BLM receives a protest against this survey, as shown on the plat, prior to the date of the official filing, we will stay the filing pending our consideration of the protest. We will not officially file the plat until the day after we have accepted or dismissed all protests and they have become final, including decisions on appeals.

Dated: August 22, 2003.
Stephen D. Douglas,
Chief Cadastral Surveyor.

[FR Doc. 03-22005 Filed 8-27-03; 8:45 am]

BILLING CODE 4310-GJ-P